DEPARTMENT OF ENERGY

Federal Energy Regulatory Commission

[Docket No. RM93-11-000]

Notice of Annual Change in the Producer Price Index for Finished Goods; Oil Pipeline Regulations Pursuant to the Energy Policy Act of 1992; Revisions

The Commission's regulations include a methodology for oil pipelines to change their rates through use of an index system that establishes ceiling levels for such rates. The Commission bases the index system, found at 18 CFR 342.3, on the annual change in the Producer Price Index for Finished Goods (PPI-FG), plus zero-point seven eight percent (PPI-FG + 0.78%). The Commission determined in the December 2020 Order ¹ and in the Order Reinstating Index ² that PPI-FG + 0.78% is the appropriate oil pricing index factor for pipelines to use for the five-year period commencing July 1, 2021.

¹ Five-Year Rev. of the Oil Pipeline Index, 173 FERC ¶ 61,245 (2020) (December 2020 Order).

² Revisions to Oil Pipeline Regulations Pursuant to the Energy Pol'y Act of 1992, 188 FERC ¶ 61,173 (2024) (Order Reinstating Index).

The regulations provide that the Commission will publish annually an index figure reflecting the final change in the PPI-FG after the Bureau of Labor Statistics publishes the final PPI-FG in May of each calendar year. The annual average PPI-FG index figures were 254.6 for 2023 and 257.7 for 2024.³ Thus, the percent change (expressed as a decimal) in the annual average PPI-FG from 2023 to 2024, plus 0.78%, is positive 0.019976.⁴ Oil pipelines must multiply their July 1, 2025, through June 30, 2026 index ceiling levels by positive 1.019976 ⁵ to compute their index ceiling levels for July 1, 2025, through June 30, 2026, in accordance with 18 CFR 342.3(d). For guidance in calculating the ceiling levels for each 12-month period beginning January 1, l995,⁶ see Explorer Pipeline Company, 71 FERC ¶ 61,416, at n.6 (1995).

³ Bureau of Labor Statistics (BLS) publishes the final figure in mid-May of each year. This figure is publicly available at http://www.bls.gov/ppi/home.htm. To obtain the BLS data, go to the “PPI Data” menu across the top of the screen, click “Databases,” and click on “Top Picks” of the Commodity Data including “headline” FD-ID indexes (Producer Price Index—PPI). At the next screen, under the heading “PPI Commodity Data,” select the box, “Finished goods—WPUFD49207,” then scroll to the bottom of this screen and click on Retrieve data.

⁴ [257.7-254.6] / 254.6 = 0.012176 + 0.0078 = +0.019976.

⁵ 1 + 0.019976 = 1.019976.

⁶ For a listing of all prior multipliers issued by the Commission, see the Commission's website, https://www.ferc.gov/general-information-1/oil-pipeline-index.

In addition to publishing the full text of this document in the Federal Register, the Commission provides all interested persons an opportunity to view and/or print this document via the internet through the Commission's Home Page (http://www.ferc.gov) using the eLibrary link. To access this document in eLibrary, type the docket number excluding the last three digits of this document in the docket number field and follow other directions on the search page.

User assistance is available for eLibrary and other aspects of the Commission's website during normal business hours. For assistance, please contact the Commission's Online Support at 1-866-208-3676 (toll free) or 202-502-6652 (email at FERCOnlineSupport@ferc.gov), or the Public Reference Room at 202-502-8371, TTY 202-502-8659. Email the Public Reference Room at public.referenceroom@ferc.gov.

Dated: May 16, 2025.
Debbie-Anne A. Reese,
Secretary.

[FR Doc. 2025-09243 Filed 5-21-25; 8:45 am]

BILLING CODE 6717-01-P